DEPARTMENT OF COMMERCE

International Trade Administration

[Application No. 92-16A001]

Export Trade Certificate of Review

ACTION: Notice of issuance of an amended Export Trade Certificate of Review to Aerospace Industries Association of America, Inc., Application No. 92-16A001.

SUMMARY: The Secretary of Commerce, through the Office of Trade and Economic Analysis (“OTEA”), issued an amended Export Trade Certificate of Review (“Certificate”) to Aerospace Industries Association of America, Inc., on March 27, 2023.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4011-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

Aerospace Industries Association of America, Inc.'s Certificate has been amended as follows:

1. Added the following companies as new Members of the Certificate within the meaning of section 325.2(l) of the Regulations (15 CFR 325.2(l)):

• Acorn Growth Companies, LLC; Oklahoma City, OK

• AeroMed Group; Charlotte, NC

• Alvarez & Marsal Holdings, LLC; New York, NY

• Ansys, Inc.; Canonsburg, PA

• Astroscale U.S., Inc.; Denver, CO (controlling entity Astroscale Holdings Inc; Tokyo, Japan)

• AT Kearney Public Sector and Defense Services; Arlington, VA (controlling entity AT Kearney; Chicago, IL)

• ATI Defense; Pittsburgh, PA (controlling entity Allegheny Technologies Incorporated; Pittsburgh, PA)

• Aura Network Systems, Inc.; McLean, VA

• Aviation Management Associates, Inc.; Washington, DC

• Beta Technologies; South Burlington, VT

• Cadence Design Systems, Inc.; San Jose, CA (controlling entity Cadence Design Systems; Dublin, Ireland)

• Capewell Aerial Systems; South Windsor, CT

• COMSPOC Corporation; Exton, PA

• Electra.aero; Manassas, VA

• ENSCO, Inc.; Springfield, VA

• Exosonic, Inc.; Los Angeles, CA

• Ferra Aerospace, Inc.; Grove, OK (controlling entity Ferra Group; Brisbane, Australia)

• Infosys; Richardson, TX (controlling entity Infosys Limited; Bangalore, India)

• Interos, Inc.; Arlington, VA (controlling entity Enteros EMEA Ltd.; Main, Germany)

• Joby Aviation, Inc.; Santa Cruz, CA

• Metis Flight Research Associates; Albuquerque, NM

• Microsoft Azure; Redmond, WA (controlling entity Microsoft Corporation; Redmond, WA)

• MTI Motion; Prairie View, WI (controlling entity Steel Partners Holding, L.P.; New York, NY)

• Nimbis Services, Inc.; Oro Valley, AZ

• Oliver Wyman Inc.; New York, NY

• Pacific Forge Incorporated; Fontana, CA (controlling entity Avis Industrial Corporation; Upland, IN)

• Perryman Company; Houston, PA

• Reaction Engines, Inc.; Denver, CO (controlling entity Reaction Engines Ltd.; Abingdon, U.K.)

• Relativity Space, Inc.; Long Beach, CA

• Reliable Robotics Corporation; Mountain View, CA

• SB Technology, Inc.; San Francisco, CA (controlling entity SandboxAQ; Palo Alto, CA)

• SI2 Technologies; North Billerica, MA (controlling entity Antenna Research Associates, Inc.; Laurel, MD)

• SkyThread Corporation; Irvine, CA

• Solvay; Alpharetta, GA (controlling entity Solvay SA; Brussels, Belgium)

• Spartronics LLC; Williamsport, PA

• Spright; Gilbert, AZ (controlling entity Air Methods Corporation; Greenwood Village, CO)

• Sunbelt Design and Development Inc; San Antonio, TX

• Supernal LLC; Washington, DC (controlling entity Hyundai Motor Group; Seoul, South Korea)

• Synergetic Technologies Group, Inc.; La Verne, CA

• SysArc Inc.; Rockville, MD

• Tata Consultancy Services; Edison, NJ (controlling entity Tata Consultancy Services Limited; Mumbai, India)

• Umbra Lab, Inc.; Santa Barbara, CA

• VIASAT, INC.; Carlsbad, CA

• Virgin Orbit Holdings, Inc.; Long Beach, CA

• Wisk Aero LLC; Mountain View, CA

• World View Enterprises, Inc.; Tucson, AZ

2. Removed the following companies as Members of AIA's Certificate:

• Aerion Corporation

• Aero Metals Alliance

• AGC Aerospace & Defense

• Air-Liquide USA LLC

• Alta Devices, Inc.

• Analytical Graphics, Inc.

• Arch Tuscaloosa

• B&E Group, LLC

• Benchmark Electronics, Inc.

• Bombardier

• Cubic Corporation, Inc.

• Cytec Engineered Materials, Inc.

• Delta Flight Products

• Denison Industries, Inc.

• Dupont Company

• Esterline Technologies

• FS Precision Tech, Co. LLC

• Gamma Aerospace LLC

• Garmin International, Inc.

• Global Partner Solutions, LLC

• Hellen Systems LLC

• Limco Air Repair, Inc.

• Lockheed Martin Corporation

• Lord Corporation

• Mantech International Corporation

• Meggitt-USA, Inc.

• Momentum Aviation Group

• MOOG Inc.

• MTorres Americas

• NEO Tech

• Parker Aerospace

• PrecisionHawk

• Primus Aerospace

• Primus Technologies Corporation

• Range Generation Next LLC

• Rix Industries

• Sparton Corporation

• TT Electronics

• United Technologies Corporation

• Vantage Associates

3. Changed names or addresses for the following Members:

• Advanced Logistics for Aerospace, LLC is now located in Bethpage, NY

• AeroVironment, Inc. is now located in Arlington, VA

• American Pacific Corporation is now located in Cedar City, UT

• Arconic Inc. of New York, NY is now Howmet Aerospace Inc. in Pittsburgh, PA

• Astronautics Corporation of America is now located in Oak Hill, WI

• BAE Systems, Inc. is now located in Falls Church, VA

• Cobham in Arlington, VA changed its name to Cobham Advanced Electronic Solutions (CAES)

• Ducommun, Incorporated of Carson, CA is now located in Santa Ana, CA

• DXC Technology Company of Tysons Corner, VA is now located in Ashburn, VA

• General Dynamics Corporation of Falls Church, VA is now located in Reston, VA

• Integral Aerospace, LLC of Santa Ana, CA is now PCX Aerosystems at the same location

• Kaman Aerospace Corporation of Bloomfield, CT is now Kaman Corporation at the same location

• Kratos Defense & Security Solutions, Inc. of San Diego, CA is now located in Round Rock, TX

• Meggitt-USA, Inc. of Simi, CA and Parker Aerospace of Irvine, CA now are Parker Meggitt USA Inc., located in Simi Valley, CA

• Microsemi Corporation of Aliso Viejo, CA is now Microchip Technology Incorporated in Chandler, AZ

• Northrop Grumman Corporation of Los Angeles, CA is now located in Falls Church, VA

• Pacific Design Technologies, Inc. of Goleta, CA is now AMETEK Pacific Design Technologies, Inc. in the same location

• PTC Inc. of Needham, MA is now located in Boston, MA

• Raytheon Company of Waltham, MA is now Raytheon Technologies Corporation located in Arlington, VA

• salesforce.com, inc. of San Francisco, CA is now Salesforce, Inc. at the same location

• Siemens PLM Software of Plano, TX is now Siemens Government Technologies, Inc. in Reston, VA

• Sierra Nevada Corporation, Space Systems of Littleton, CO is now Sierra Space Corporation located in Broomfield, CO

• Stratolaunch Systems Corporation of Seattle, WA is now Stratolaunch LLC in Mojave, CA

• SupplyOn North America Inc. of San Diego, CA is now located in Greer, SC

• Tech Manufacturing, LLC of Wright, MO is now ADDMAN Tech Production Center in the same location

• TriMas Aerospace of Los Angeles, CA is now located in Irvine, CA

• Triumph Group, Inc. of Wayne, PA is now located in Berwyn, PA

• Unitech Aerospace of Hayden, ID is now Unitech Composites Inc. at the same location

Final Membership is as follows:

• 3M Company; St. Paul, MN

• AAR Corp.; Wood Dale, IL

• Accenture; Chicago, IL

• Acorn Growth Companies, LLC; Oklahoma City, OK

• Acutec Precision Aerospace, Inc.; Meadville, PA

• ACUTRONIC USA, Inc.; Pittsburgh, PA

• ADI American Distributors LLC; Randolph, NJ

• ADDMAN Tech Production Center; Wright, MO

• Advanced Logistics for Aerospace (ALA); Bethpage, NY

• Aernnova Aerospace; Ann Arbor, MI

• Aerojet Rocketdyne; Rancho Cordova, CA

• AeroMed Group; Charlotte, NC

• Aero-Mark, LLC; Ontario, CA

• AeroVironment, Inc.; Arlington, VA

• Aireon LLC; McLean, VA

• AlixPartners, LLP; New York, NY

• Allied Telesis, Inc.; Bothell, WA

• Alvarez & Marsal Holdings, LLC; New York, NY

• Amazon.com Inc.; Seattle, WA

• American Pacific Corporation; Cedar City, UT

• AMETEK Pacific Design Technologies, Inc.; Goleta, CA

• Ansys, Inc.; Canonsburg, PA

• Apex International Management Company; Daytona Beach, FL

• Applied Composites; Lake Forest, CA

• Astronautics Corporation of America; Oak Hill, WI

• Astronics Corporation, East Aurora, NY

• Astroscale U.S. Inc.; Denver, CO

• AT Kearney Public Sector and Defense Services; Arlington, VA

• Athena Manufacturing, LP; Austin, TX

• ATI Defense; Pittsburgh, PA

• Aura Network Systems, Inc.; McLean, VA

• AUSCO, Inc.; Port Washington, NY

• Avascent; Washington, DC

• Aviation Management Associates, Inc.; Washington, DC

• BAE Systems, Inc.; Falls Church, VA

• Ball Aerospace & Technologies Corp.; Boulder, CO

• Belcan Corporation; Cincinnati, OH

• Beta Technologies; South Burlington, VT

• Boom Technology, Inc.; Denver, CO

• Booz Allen Hamilton; McClean, VA

• Boston Consulting Group; Boston, MA

• BRPH Architects Engineers, Inc.; Melbourne, FL

• Burns & McDonnell Engineering Corporation, Inc.; Kansas City, MO

• BWX Technologies, Inc.; Lynchburg, VA

• CADENAS PARTsolutions, LLC; Cincinnati, OH

• Cadence Design Systems, Inc.; San Jose, CA

• CAE USA; Tampa, FL

• Capewell Aerial Systems; South Windsor, CT

• Capgemini; New York, NY

• Celestica Inc.; Toronto, Canada

• Click Bond, Inc.; Carson City, NV

• Cobham Advanced Electronic Solutions (CAES); Arlington, VA

• COMSPOC Corporation; Exton, PA

• CPI Aerostructures, Inc.; Edgewood, NY

• Crane Aerospace & Electronics; Lynnwood, WA

• Deloitte Consulting LLP; New York, NY

• Ducommun Incorporated; Santa Ana, CA

• DXC Technology Company, Ashburn, VA

• Eaton Corporation; Cleveland, OH

• Elbit Systems of America, LLC; Fort Worth, TX

• Electra.aero; Manassas, VA

• Embraer Aircraft Holding Inc.; Fort Lauderdale, FL

• Enjet Aero, LLC; Overland Park, KS

• ENSCO, Inc.; Springfield, VA

• EPS Corporation; Tinton Falls, NJ

• Ernst & Young LLP; New York, NY

• Exosonic, Inc.; Los Angeles, CA

• Exostar LLC; Herndon, VA

• Ferra Aerospace, Inc.; Grove, OK

• FTG Circuits, Inc.; Chatsworth, CA

• General Atomics Aeronautical Systems, Inc.; Poway, CA

• General Dynamics Corporation; Reston, VA

• General Electric Aviation; Cincinnati, OH

• Google, LLC; Mountain View, CA

• GSE Dynamics, Inc.; Hauppauge, NY

• HCL America Inc.; Sunnyvale, CA

• HEICO Corporation; Hollywood, FL

• Hexcel Corporation; Stamford, CT

• Honeywell Aerospace; Phoenix, AZ

• Howmet Aerospace Inc.; Pittsburgh, PA

• Huntington Ingalls Industries, Inc.; Newport News, VA

• IBM Corporation; Armonk, NY

• Infosys; Richardson, TX

• Interos, Inc.; Arlington, VA

• Iron Mountain, Inc.; Boston, MA

• Jabil Defense & Aerospace Services LLC; St. Petersburg, FL

• Joby Aviation, Inc.

• Kaman Corporation; Bloomfield, CT

• KPMG LLP; New York, NY

• Kratos Defense & Security Solutions, Inc.; Round Rock, TX

• L3Harris Technologies, Inc.; Melbourne, FL

• Leidos, Inc; Reston, VA

• LS Technologies, LLC; Fairfax, VA

• Marotta Controls, Inc.; Montville, NJ

• Mercury Systems, Inc.; Andover, MA

• Metis Flight Research Associates; Albuquerque, NM

• Microchip Technology Incorporated; Chandler, AZ

• Microsoft Azure; Redmond, WA

• MTI Motion; Prairie View, WI

• National Technical Systems, Inc.; Calabasas, CA

• Net-Inspect, LLC; Kirkland, WA

• New England Air Foil Products, Inc.; Farmington, CT

• Nimbis Services, Inc.; Oro Valley, AZ

• Nokia US; Murray Hill, NJ

• Norsk Titanium US Inc.; Plattsburgh, NY

• Northrop Grumman Corporation; Falls Church, VA

• Oliver Wyman Inc.; New York, NY

• O'Neil & Associates, Inc.; Miamisburg, OH

• Pacific Forge Incorporated; Fontana, CA

• Parker Meggitt USA Inc.; Simi Valley, CA

• PCX Aerosystems, Santa Ana, CA

• Perryman Company; Houston, PA

• Plexus Corporation; Neenah, WI

• PPG Aerospace-Sierracin Corporation; Sylmar, CA

• PTC Inc.; Boston, MA

• PWC Aerospace & Defense Advisory Services; McLean, VA

• Raytheon Technologies Corporation; Arlington, VA

• Reaction Engines, Inc.; Denver, CO

• Relativity Space, Inc.; Long Beach, CA

• Reliable Robotics Corporation; Mountain View, CA

• Rhinestahl Corporation; Mason, OH

• Rolls-Royce North America Inc.; Reston, VA

• Salesforce, Inc.; San Francisco, CA

• SAP America, Inc.; Newtown Square, PA

• SB Technology, Inc.; San Francisco, CA

• Securitas Critical Infrastructure Services, Inc.; Springfield, VA

• SI2 Technologies; North Billerica, MA

• Siemens Government Technologies, Inc.; Reston, VA

• Sierra Space Corporation; Broomfield, CO

• SkyThread Corporation; Irvine, CA

• Solvay; Alpharetta, GA

• Spartronics LLC; Williamsport, PA

• Special Aerospace Services, LLC; Boulder, CO

• Spirit AeroSystems; Wichita, KS

• Spright; Gilbert, AZ

• Stratolaunch LLC; Mojave, CA

• Sunbelt Design and Development Inc.; San Antonio, TX

• Supernal LLC; Washington, DC

• SupplyOn North America, Inc.; Greer, SC

• Synergetic Technologies Group, Inc.; La Verne, CA

• SysArc Inc.; Rockville, MD

• Tata Consultancy Services; Edison, NJ

• Textron Inc.; Providence, RI

• The Aerospace Corporation, Civil Systems Group; El Segundo, CA

• The Boeing Company; Chicago, IL

• The Lundquist Group LLC; New York, NY

• The Padina Group, Inc.; Lancaster, PA

• Therm, Incorporated; Ithaca, NY

• Tip Technologies; Waukesha, WI

• Tribus Aerospace Corporation; Poway, CA

• TriMas Aerospace; Irvine, CA

• Triumph Group, Inc.; Berwyn, PA

• Umbra Lab, Inc.; Santa Barbara, CA

• Unitech Composites Inc.; Hayden, ID

• Verify, Inc.; Irvine, CA

• VIASAT, INC.; Carlsbad, CA

• Virgin Galactic, LLC; Las Cruces, NM

• Virgin Orbit Holdings, Inc.; Long Beach, CA

• Wisk Aero LLC; Mountain View, CA

• Woodward, Inc.; Fort Collins, CO

• World View Enterprises, Inc.; Tucson, AZ

The effective date of the Certificate is December 28, 2022, the date on which the application to amend was deemed submitted.

Dated: April 7, 2023.
Joseph Flynn,
Director, Office of Trade and Economic Analysis, International Trade Administration, U.S. Department of Commerce.

[FR Doc. 2023-07719 Filed 4-11-23; 8:45 am]

BILLING CODE 3510-DR-P